INTERNATIONAL TRADE COMMISSION

[Inv. No. 337-TA-543 (Remand Proceeding) (Enforcement Proceeding)]

In the Matter of Certain Baseband Processor Chips and Chipsets, Transmitter and Receiver (Radio) Chips, Power Control Chips, and Products Containing Same, Including Cellular Telephone Handsets; Notice of Commission Determination Not To Review an Initial Determination Terminating the Investigation Based on a Settlement Agreement

AGENCY: U.S. International Trade Commission.

ACTION: Notice.

SUMMARY: Notice is hereby given that the U.S. International Trade Commission has determined not to review the presiding administrative law judge's (“ALJ”) initial determination (“ID”) (Order No. 74) granting a joint motion to terminate the investigation based on a settlement agreement.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On June 21, 2005, the Commission instituted an investigation under section 337 of the Tariff Act of 1930, 19 U.S.C. 1337, based on a complaint filed by Broadcom Corporation (“Broadcom”) of Irvine, California, alleging a violation of section 337 in the importation, sale for importation, and sale within the United States after importation of certain baseband processor chips and chipsets, transmitter and receiver (radio) chips, power control chips, and products containing same, including cellular telephone handsets by reason of infringement of five patents. 70 FR 35707 (June 21, 2005). Broadcom named Qualcomm Incorporated (“Qualcomm”) of San Diego, California as the only respondent. On December 8, 2006, the Commission affirmed the ALJ's final ID finding a violation due to infringement of U.S. Patent No. 6,714,983. On June 7, 2007 the Commission issued a limited exclusion order and a cease and desist order to Qualcomm. Qualcomm appealed the Commission's determination to the U.S. Court of Appeals for the Federal Circuit (“Federal Circuit”) on August 7, 2007, which appeal was consolidated under the lead case Kyocera Wireless Corp. v. International Trade Commission, Nos. 2007-1492, et al. (“Kyocera”).

On November 9, 2007, Broadcom filed an enforcement complaint pursuant to Commission Rule 210.75, alleging, inter alia, that Qualcomm has violated and continues to violate the Commission's cease and desist order. Based on Broadcom's complaint, the Commission instituted the enforcement proceeding on December 28, 2007. 72 FR 73879 (Dec. 28, 2007). On October 14, 2008, the Federal Circuit issued an opinion in Kyocera, remanding the underlying investigation to the Commission.

On May 6, 2009, Broadcom and Qualcomm jointly moved to terminate this investigation based upon a settlement agreement, pursuant to Commission rule 210.21 (19 CFR 210.21). On May 15, 2009, the Commission investigative attorney filed a response in support of the joint motion to terminate the investigation.

On June 11, 2009, the ALJ issued the subject ID granting the joint motion to terminate the investigation. No petitions for review of the ID were filed. The Commission has determined not to review the subject ID.

The authority for the Commission's determination is contained in section 337 of the Tariff Act of 1930, as amended (19 U.S.C. 1337), and in section 210.42 of the Commission's Rules of Practice and Procedure (19 CFR 210.42).

Dated: Issued: June 30, 2009.
By order of the Commission.
Marilyn R. Abbott,
Secretary to the Commission.

[FR Doc. E9-15891 Filed 7-2-09; 8:45 am]

BILLING CODE 7020-02-P